DEPARTMENT OF JUSTICE

Notice of Lodging of Proposed Consent Decree Under the Oil Pollution Act

On July 2, 2013, the Department of Justice lodged a proposed Consent Decree with the United States District Court for the District of Alaska in the lawsuit entitled United States and State of Alaska v. Adak Petroleum, LLC, Civil Action No. 3:13-cv-00121-HRH.

In this action, the United States of America, acting at the request of National Oceanic and Atmospheric Administration and the Department of the Interior, and the State of Alaska, acting at the request of the Alaska Department of Fish and Game, the Alaska Department of Natural Resources, the Alaska Department of Law, and the Alaska Department of Environmental Conservation, sought recovery of natural resource damages from Adak Petroleum, LLC (Adak) pursuant to Section 1002 of the Oil Pollution Act, 33 U.S.C. 2702 and similar Alaska state provisions. The natural resource damages occurred when Adak accidentally released up to 142,000 gallons of diesel fuel when it was trying to refill a tank in its tank farm located in the Aleutian Islands. Under the Consent Decree, Adak will perform a restoration project to compensate for the injured natural resources, as well as pay all past and future assessment and oversight costs to state and federal agencies. In return, Adak will receive a covenant-not-to-sue for natural resource damages arising from the release.

The publication of this notice opens a period for public comment on the Consent Decree. Comments should be addressed to the Assistant Attorney General, Environment and Natural Resources Division, and should refer to United States and State of Alaska v. Adak Petroleum, LLC, D.J. Ref. No. 90-5-1-1-10506. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $13 (25 cents per page reproduction cost) payable to the United States Treasury.

Robert E. Maher, Jr.,
Assistant Section Chief, Environmental Enforcement Section, Environment and Natural Resources Division.

[FR Doc. 2013-16514 Filed 7-9-13; 8:45 am]

BILLING CODE 4410-15-P